POSTAL SERVICE

Board of Governors; Sunshine Act Meeting

DATE AND TIME: Monday, January 9, 2012 at 4 p.m., Tuesday, January 10, 2012, at 8:30 a.m.

PLACE: San Diego, California.

STATUS: Closed.

MATTERS TO BE CONSIDERED:

Monday, January 9, 2012, at 4 p.m. (Closed)

1. Strategic Issues.

Tuesday, January 10, 2012, at 8:30 a.m. (Closed)

1. Financial Matters.

2. Pricing.

3. Personnel Matters and Compensation Issues.

4. Governors' Executive Session—Discussion of prior agenda items and Board Governance.

CONTACT PERSON FOR MORE INFORMATION: Julie S. Moore, Secretary of the Board, U.S. Postal Service, 475 L'Enfant Plaza, SW., Washington, DC 20260-1000. Telephone (202) 268-4800.

Julie S. Moore,
Secretary.

[FR Doc. 2011-33026 Filed 12-21-11; 11:15 am]

BILLING CODE 7710-12-P